FEDERAL COMMUNICATIONS COMMISSION

Notice of Public Information Collection(s) Being Reviewed by the Federal Communications Commission, Comments Requested

April 24, 2001.

SUMMARY: The Federal Communications Commission, as part of its continuing effort to reduce paperwork burden invites the general public and other Federal agencies to take this opportunity to comment on the following information collection(s), as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's budget estimate; (c) ways to enhance the quality, utility, and clarity of the information collected; and (d) ways to minimize the burden of the collection of information on the respondents, including the use of automated collection techniques or other forms of information technology.

DATES: Written comments should be submitted on or before July 2, 2001. If you anticipate that you will be submitted comments, but find it difficult to do so within the period of time allowed by this notice, you should advise the contact listed below as soon as possible.

ADDRESSES: Direct all comments to Judy Boley, Federal Communications Commission, Room 1-C804, 445 12th Street, SW., DC 20554 or via the Internet to jboley@fec.gov.

FOR FURTHER INFORMATION CONTACT: For additional information or copies of the information collection(s), contact Judy Boley at 202-418-0214 or via the Internet at jboley@fcc.gov.

SUPPLEMENTARY INFORMATION OMB Control No.: 3060-0874.

Title: Consumer Complaint Form.

Form No.: FCC Form 475.

Type of Review: Revision of currently approved collection.

Respondents: Individuals or households, business or other for-profit, not-for-profit institutions, state, local or tribal governments, and federal government.

Number of Respondents: 58,772.

Estimated Time Per Response: .5 hours.

Frequency of Response: On occasion reporting requirement.

Total Annual Burden: 29,386 hours.

Total Annual Cost: N/A.

Needs and Uses: The Consumer Information Bureau (CIB) handles informal complaints filed against carriers pursuant to sections (4)(I) and 208 of the Communications Act of 1934, as amended. 47 U.S.C. Sections 154(I), 208. Pursuant to the Commission's rules, informal complaints must be filed in writing and should contain, (a) the name, address and telephone number of the complainant, (b) the name of the carrier against which the complaint is made, (c) a complete statement of the facts tending to show that such carrier did or omitted to do anything in contravention of the Communications Act, and (d) the specific relief or satisfaction sought. 47 CFR section 1.716. The information sought in the Consumer Complaint For 475 (FCC Form 475) provides the CIB with complete information to process the complaints pursuant to the applicable rules. The completion of the FCC Form 475 is, however, voluntary. The revision to the existing FCC Form 475 is necessary because CIB now handles both common carrier wireline and wireless complaints. The existing FCC Form 475 does not provide for complaints filed against wireless carriers. The revised FCC Form 475 is more comprehensive in that it allows consumers to file complaints against either wireline or wireless carriers by using the same form.

Federal Communications Commission.
Magalie Roman Salas,
Secretary.

[FR Doc. 01-10867 Filed 5-1-01; 8:45 am]

BILLING CODE 6712-01-M